DEPARTMENT OF ENERGY

Federal Energy Regulatory Commission

[Project No. 1922-052]

Ketchikan Public Utilities; Notice of Application Ready for Environmental Analysis and Soliciting Comments, Recommendations, Terms and Conditions, and Prescriptions

Take notice that the following hydroelectric application has been filed with the Commission and is available for public inspection.

a. Type of Application: Subsequent Minor License.

b. Project No.: 1922-052.

c. Date filed: October 27, 2022.

d. Applicant: Ketchikan Public Utilities (KPU).

e. Name of Project: Beaver Falls Hydroelectric Project (project).

f. Location: On Beaver Falls Creek in Ketchikan Gateway Borough, Alaska. The project currently occupies 478.4 acres of United States lands administered by U.S. Forest Service.

g. Filed Pursuant to: Federal Power Act 16 U.S.C. 791(a)-825(r).

h. Applicant Contact: Jennifer Holstrom, Senior Project Engineer, Ketchikan Public Utilities, 1065 Fair Street, Ketchikan, Alaska 99901; (907) 228-4733; or email at jenniferh@ktn-ak.us.

i. FERC Contact: Golbahar Mirhosseini at Golbahar.Mirhosseini@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Beaver Falls Hydroelectric Project (P-1922-052).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The existing Beaver Falls Project consists of two developments, Silvis and Beaver Falls. Beaver Falls Creek first flows into a 300-acre project reservoir known as Upper Silvis Lake which has approximately 38,000 acre-feet of gross storage capacity and 22,000 acre-feet of usable capacity and is impounded by Upper Silvis Lake Dam, a 60-foot-high, 135-foot-long, 22-foot-wide concrete-face, rock-filled dam with a crest elevation of 1,164 feet msl.¹ Water passes downstream of Upper Silvis Lake and dam via two primary methods: (1) via spill over a weir into an open channel that discharges to Lower Silvis Lake; or (2) via discharges through the Silvis Powerhouse into Lower Silvis Lake. Both the spillway weir and the intake to the power tunnel leading to Silvis powerhouse are located approximately 450 feet south and east of the dam. The Upper Silvis spillway consists of an ungated concrete-encapsulated composite rockfill weir with a 54-foot-long and 16-foot high crest at an elevation of 1,154 feet that passes water into an 800-foot-long, 20-foot-wide, 8-foot-deep excavated rock spillway channel leading from Upper Silvis Lake to Lower Silvis Lake. The Upper Silvis intake consists of a 3-foot by 4-foot manually operated sluice gate approximately 200 feet downstream of the power tunnel entrance which is at an invert elevation of 1,050 msl. Water entering the intake passes through trash racks containing two rack bars 10-inches off center and spaced 30 feet apart and enters the 980-foot-long underground power tunnel connecting to a 375-foot-long, 36-inch-diameter steel penstock that conveys water to a 30 feet by 40 feet by 25-feet-high Silvis powerhouse. The Silvis powerhouse contains a single Francis-type turbine with a rated capacity of 2.1 megawatts. Water exiting the Silvis powerhouse enters a 150-foot-long trapezoidal shaped channel tailrace that discharges into Lower Silvis Lake. There is also a penstock bypass gate valve that can be used to bypass the powerhouse and discharge water from the penstock into the spillway channel that runs parallel to the penstock and a powerhouse bypass valve that allows water entering the powerhouse to bypass the turbine and discharge directly into Lower Silvis Lake. Power from the Silvis powerhouse is transmitted through a 2,900-foot-long, 5-kilovolt submarine cable beneath Lower Silvis Lake which connects to a 2,500 Kilovolt-ampere (kVA), 34.5-4.16 kV transformer located near Lower Silvis Lake Dam. From the transformer, power is transmitted via a 7,000-foot-long, 34.5- kilovolt aerial transmission line to the Beaver Falls substation/switchyard.

¹ All elevations are in mean sea level (msl). The conversion to North American Vertical Datum of 1988 (NAVD 88) at the project is msl minus 8.07 feet.

Water passing downstream of Upper Silvis Lake enters a 67.5-acre project reservoir known as Lower Silvis Lake which begins the Beaver Falls development portion of the project. Lower Silvis Lake has a gross storage capacity of approximately 8,052 acre-feet and usable storage capacity of 1,600 acre-feet and is impounded by Lower Silvis Dam which is a 32-foot-high, 140-foot-long concrete-face, rock-filled dam with a crest elevation of 835 feet. Water either spills over the Lower Silvis Dam and spillway into Beaver Falls Creek or enters the Lower Silvis intake structure and power tunnel system. A spillway composed of a reinforced concrete ungated control weir approximately 3-foot-high, 140-foot-long and 4-foot-wide with a crest elevation of 827 feet extends from the left abutment of Lower Silvis Lake Dam and discharges water into Beaver Falls Creek via a 50-foot-wide spillway discharge channel. Beaver Falls Creek then flows for approximately 0.66-miles to a 3-foot-high, 40-foot-long concrete Beaver Falls Creek Diversion Dam. At this point, water can either enter an intake leading to a penstock that supplies Unit 1 in the Beaver Falls powerhouse, or pass over the diversion dam spillway and flow an additional 0.85-mile before discharging into George Inlet. The Beaver Falls Diversion Dam intake consists of a steel settling box and concrete shelter house with angled trash racks 81-inches-wide with 1.25-inches clear bar spacing and a manually operated gate that leads to a 4,170-foot-long above ground steel penstock that conveys water from the Beaver Falls Creek diversion dam east to the Beaver Falls powerhouse and supplies Unit 1 in the powerhouse. Rather than spilling over the Lower Silvis Lake Dam and spillway into Beaver Falls Creek, water in Lower Silvis Lake can also enter an intake structure located south of the Lower Silvis Lake Dam. The intake contains a 10-foot by 32-foot steel intake trash rack, with 0.25-inch by 2.5-inch deep bars spaced 1.75-inches apart. Water from the intake leads to a 3,800-foot-long underground power tunnel connecting to a 3,610-foot-long above ground steel penstock that supplies water to Units 3 and 4 in the powerhouse. A 225-foot-long, 20-inch-diameter “adit” (i.e., steel pipe) taps into the 3,800-foot-long underground power tunnel and can be used by KPU to divert up to 60 cfs of water from the power tunnel to supplement flow in Beaver Falls Creek. The adit discharges water into an open drainage ditch that runs along the Silvis Lakes Trail for approximately 550 feet and connects to an approximately 50-foot-long return culvert running under the trail that discharges water into Beaver Falls Creek just upstream of the Beaver Falls Diversion Dam described earlier. The project penstocks convey water to a 30 feet by 147 feet by 25-feet-high Beaver Falls powerhouse containing three horizontal Pelton generating units with a total installed capacity of 5 MW (Units 1, 3 and 4 are operational; Unit 2 is decommissioned).² Water exiting the powerhouse enters a 60-foot-long open tailrace channel (Units 1 and 2 have separate tailrace channels each 9-feet-wide while Units 3 and 4 have separate 10-foot-wide channels which merge 30 feet downstream of the powerhouse into a single 20-foot-wide channel). KPU states there are no transmission lines associated with the Beaver Falls powerhouse as the powerhouse interconnects to the adjacent Beaver Falls substation/switchyard, which is also serves as interconnection point for the Silvis transmission line described earlier. Between both powerhouses, the Beaver Falls Project generates an average of 45,877 megawatt-hours (MWh) annually.

² The 5 MW total capacity for the Beaver Falls Powerhouse consists of 1 MW generated from Unit 1, 2 MW generated from Unit 3, and 2 MW generated from Unit 4. Unit 1 operates at a minimum hydraulic capacity of 7 cfs and maximum hydraulic capacity of 33 cfs. Unit 3 operates at a minimum hydraulic capacity of 8 cfs and a maximum hydraulic capacity of 55 cfs. Unit 4 operates at a minimum hydraulic capacity of 9 cfs and a maximum hydraulic capacity of 56 cfs. Therefore, the minimum capacity of the Beaver Falls Powerhouse is 7 cfs while the combined maximum hydraulic capacity for the Beaver Falls powerhouse is 144 cfs.

KPU operates the project in peaking mode utilizing a combination of river inflow and storage in the reservoirs to meet the power demands of the City of Ketchikan (particularly in the summer). Upper Silvis Lake provides the primary storage for the project. KPU proposes to continue operating the project in peaking mode with no new developments or modifications to its existing facilities or operation. KPU also proposes to remove 77 acres of land from the Beaver Falls project boundary to more closely align with the footprint of its facilities and maintenance needs. KPU's proposed Beaver Falls project boundary would include 408.8 acres of land within Tongass National Forest, and approximately 14.2 acres of Federal lands subject to FPA Section 24, for a total of 423 acres.

m. A copy of the application is available for review via the internet through the Commission's Home Page (http://www.ferc.gov), using the “eLibrary” link. Enter the docket number, excluding the last three digits in the docket number field, to access the document. At this time, the Commission has suspended access to the Commission's Public Reference Room. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Milestone | Target date
Deadline for Filing Comments, Recommendations, and Agency Terms and Conditions/Prescriptions | December 2023.
Licensee's Reply to REA Comments | January 2024.

p. Final amendments to the application must be filed with the Commission no later than 30 days from the issuance date of this notice.

Dated: October 10, 2023.
Kimberly D. Bose,
Secretary.

[FR Doc. 2023-22757 Filed 10-13-23; 8:45 am]

BILLING CODE 6717-01-P